DEPARTMENT OF COMMERCE

National Oceanic and Atmospheric Administration

[RTID 0648-XC194]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council including joint sessions with the Atlantic States Marine Fisheries Commission's Bluefish and Summer Flounder, Scup, and Black Sea Bass Management Boards.

DATES: The meetings will be held Monday, August 8 through Thursday, August 11, 2022. For agenda details, see SUPPLEMENTARY INFORMATION.

ADDRESSES:

Meeting address: The meeting will be held at The Notary Hotel (21 N. Juniper Street, Philadelphia, PA 19107); telephone: (215) 496-3200.

This meeting will be conducted in a hybrid format, with options for both in person and webinar participation. Webinar registration details will be available on the Council's website at https://www.mafmc.org/briefing/august-2022.

Council address: Mid-Atlantic Fishery Management Council, 800 N. State St., Suite 201, Dover, DE 19901; telephone: (302) 674-2331; www.mafmc.org.

FOR FURTHER INFORMATION CONTACT: Christopher M. Moore, Ph.D., Executive Director, Mid-Atlantic Fishery Management Council; telephone: (302) 526-5255. The Council's website, www.mafmc.org also has details on the meeting location, proposed agenda, webinar listen-in access, and briefing materials.

SUPPLEMENTARY INFORMATION: The following items are on the agenda, although agenda items may be addressed out of order (changes will be noted on the Council's website when possible.)

Monday, August 8, 2022

Council Meeting With the ASMFC Bluefish Management Board

Bluefish 2023 Specifications

Review recommendations from the Scientific and Statistical Committee (SSC), Monitoring Committee, Advisory Panel, and staff

Review previously adopted commercial and recreational catch and landings limits for 2023 and review as necessary

Review and review 2023 commercial and recreational measures if needed

ASMFC Bluefish Board Only

Tuesday, August 9, 2022

Council Meeting With the ASMFC Summer Flounder, Scup, and Black Sea Bass Management Board

EAFM Recreational Summer Flounder Management Strategy Evaluation

Review MSE model results and work group recommendations

Provide feedback and direction for potential application of MSE results

Summer Flounder 2023 Specifications

Review recommendations from the SSC, Monitoring Committee, Advisory Panel, and staff

Review previously adopted commercial and recreational catch and landings limits for 2023 and revise as necessary

Review and revise 2023 commercial measures if needed

Scup 2023 Specifications

Review recommendations from the SSC, Monitoring Committee, Advisory Panel, and staff

Review previously adopted commercial and recreational catch and landings limits for 2023 and revise as necessary

Review and revise 2023 commercial measures if needed

Black Sea Bass 2023 Specifications

Review recommendations from the SSC, Monitoring Committee, Advisory Panel, and staff

Review previously adopted commercial and recreational catch and landings limits for 2023 and revise as necessary

Review and revise 2023 commercial measures if needed

ASMFC Summer Flounder, Scup, Black Sea Bass Board Only

Wednesday, August 10, 2022

BOEM Guidance for Mitigating Impact of Offshore Wind Energy Projects on Commercial and Recreational Fisheries

Review draft guidance and discuss Council comments

Community Offshore Wind Project (lease OCS-A-0539 off New Jersey)

Presentation by RWE representatives

East Coast Climate Change Scenario Planning

Update on draft scenarios and next steps

Ecosystem and Ocean Planning (EOP) Committee Report

Report on EOP Committee and Advisory Panel meeting on potential designation of Hudson Canyon National Marine Sanctuary

Update on New England Fishery Management Council Activities Affecting Mid-Atlantic

Monkfish specifications update

Potential winter flounder accountability measures for squid fishery

New England response to Sturgeon Draft Action Plan

Next steps regarding SCOQ Nantucket Shoals Habitat Management Area

Butterfish 2023-2024 Specifications

Review recommendations from the Advisory Panel, SSC, and staff

Approve 2023-2024 specifications

Report on Illex Squid Research Track Assessment Process

Review report from Consensus Building Institute (CBI)

Discussion and recommendations on next steps

Illex Preliminary 2023 Specifications

Review recommendations from the Advisory Panel, SSC, and staff

Approve preliminary 2023 specifications

Update on Illex Permit Amendment (Amendment 22 to the Mackerel, Squid, Butterfish FMP)

Overview of alternatives that were selected as preferred at final action

Update on current status of NMFS rulemaking

Acknowledgement of Outgoing Council Members

Thursday, August 11, 2022

Swearing In of New and Reappointed Council Members

Election of Officers

Business Session

Committee Reports (SSC); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Shelley Spedden, (302) 526-5251, at least 5 days prior to the meeting date.

Authority: 16 U.S.C. 1801 et seq.

Dated: July 18, 2022.
Rey Israel Marquez,
Acting Deputy Director, Office of Sustainable Fisheries, National Marine Fisheries Service.

[FR Doc. 2022-15643 Filed 7-21-22; 8:45 am]

BILLING CODE 3510-22-P